DEPARTMENT OF ENERGY

Federal Energy Regulatory Commission

Combined Notice of Filings #1

Take notice that the Commission received the following electric rate filings:

Docket Numbers: ER10-2249-007.

Applicants: Portland General Electric Company.

Description: Notice of Change in Status of Portland General Electric Company.

Filed Date: 6/19/17.

Accession Number: 20170619-5087.

Comments Due: 5 p.m. ET 7/10/17.

Docket Numbers: ER10-2633-033; ER10-2717-004; ER13-55-022.

Applicants: Birchwood Power Partners, L.P., EFS Parlin Holdings, LLC, Homer City Generation, L.P.

Description: Updated Market Power Analysis for the Northeast Region of Birchwood Power Partners, L.P., et al.

Filed Date: 6/19/17.

Accession Number: 20170619-5096.

Comments Due: 5 p.m. ET 8/18/17.

Docket Numbers: ER13-1504-005; ER10-2866-004; ER10-2861-004.

Applicants: SWG Arapahoe, LLC, SWG Colorado, LLC, Fountain Valley Power, L.L.C.

Description: Notice of Non-Material Change in Status of SWG Arapahoe, LLC, et al.

Filed Date: 6/19/17.

Accession Number: 20170619-5090.

Comments Due: 5 p.m. ET 7/10/17.

Docket Numbers: ER17-264-001.

Applicants: Southwest Power Pool, Inc.

Description: Tariff Amendment: Amended Filing in ER17-264—AEP Formula Rate Revisions to be effective 7/1/2017.

Filed Date: 6/19/17.

Accession Number: 20170619-5081.

Comments Due: 5 p.m. ET 7/10/17.

Docket Numbers: ER17-1671-001.

Applicants: Gulf Coast Solar Center II, LLC.

Description: Tariff Amendment: Amendment to Application for MBR to be effective 5/31/2017.

Filed Date: 6/19/17.

Accession Number: 20170619-5086.

Comments Due: 5 p.m. ET 7/10/17.

Docket Numbers: ER17-1672-001.

Applicants: Gulf Coast Solar Center III, LLC.

Description: Tariff Amendment: Amendment to Application for MBR to be effective 5/31/2017.

Filed Date: 6/19/17.

Accession Number: 20170619-5092.

Comments Due: 5 p.m. ET 7/10/17.

Docket Numbers: ER17-1850-000.

Applicants: Bishop Hill Energy LLC.

Description: § 205(d) Rate Filing: Revised Market-Based Rate Tariff to be effective 8/19/2017.

Filed Date: 6/19/17.

Accession Number: 20170619-5039.

Comments Due: 5 p.m. ET 7/10/17.

Docket Numbers: ER17-1851-000.

Applicants: Blue Sky East, LLC.

Description: § 205(d) Rate Filing: Revised Market-Based Rate Tariff to be effective 8/19/2017.

Filed Date: 6/19/17.

Accession Number: 20170619-5041.

Comments Due: 5 p.m. ET 7/10/17.

Docket Numbers: ER17-1852-000.

Applicants: Canandaigua Power Partners, LLC.

Description: § 205(d) Rate Filing: Revised Market-Based Rate Tariff to be effective 8/19/2017.

Filed Date: 6/19/17.

Accession Number: 20170619-5042.

Comments Due: 5 p.m. ET 7/10/17.

Docket Numbers: ER17-1853-000.

Applicants: Canandaigua Power Partners II, LLC.

Description: § 205(d) Rate Filing: Revised Market-Based Rate Tariff to be effective 8/19/2017.

Filed Date: 6/19/17.

Accession Number: 20170619-5043.

Comments Due: 5 p.m. ET 7/10/17.

Docket Numbers: ER17-1854-000.

Applicants: Erie Wind, LLC.

Description: § 205(d) Rate Filing: Revised Market-Based Rate Tariff to be effective 8/19/2017.

Filed Date: 6/19/17.

Accession Number: 20170619-5044.

Comments Due: 5 p.m. ET 7/10/17.

Docket Numbers: ER17-1855-000.

Applicants: Evergreen Wind Power, LLC.

Description: § 205(d) Rate Filing: Revised Market-Based Rate Tariff to be effective 8/19/2017.

Filed Date: 6/19/17.

Accession Number: 20170619-5045.

Comments Due: 5 p.m. ET 7/10/17.

Docket Numbers: ER17-1856-000.

Applicants: Evergreen Wind Power III, LLC.

Description: § 205(d) Rate Filing: Revised Market-Based Rate Tariff to be effective 8/19/2017.

Filed Date: 6/19/17.

Accession Number: 20170619-5046.

Comments Due: 5 p.m. ET 7/10/17.

Docket Numbers: ER17-1857-000.

Applicants: Niagara Wind Power, LLC.

Description: § 205(d) Rate Filing: Revised Market-Based Rate Tariff to be effective 8/19/2017.

Filed Date: 6/19/17.

Accession Number: 20170619-5047.

Comments Due: 5 p.m. ET 7/10/17.

Docket Numbers: ER17-1858-000.

Applicants: Stetson Holdings, LLC.

Description: § 205(d) Rate Filing: Revised Market-Based Rate Tariff to be effective 8/19/2017.

Filed Date: 6/19/17.

Accession Number: 20170619-5048.

Comments Due: 5 p.m. ET 7/10/17.

Docket Numbers: ER17-1859-000.

Applicants: Stetson Wind II, LLC.

Description: § 205(d) Rate Filing: Revised Market-Based Rate Tariff to be effective 8/19/2017.

Filed Date: 6/19/17.

Accession Number: 20170619-5053.

Comments Due: 5 p.m. ET 7/10/17.

Docket Numbers: ER17-1860-000.

Applicants: Vermont Wind, LLC.

Description: § 205(d) Rate Filing: Revised Market-Based Rate Tariff to be effective 8/19/2017.

Filed Date: 6/19/17.

Accession Number: 20170619-5058.

Comments Due: 5 p.m. ET 7/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2017.
Nathaniel J. Davis, Sr.,
Deputy Secretary.

[FR Doc. 2017-13109 Filed 6-22-17; 8:45 am]

BILLING CODE 6717-01-P